SURFACE TRANSPORTATION BOARD

[Docket No. FD 36628]

Trans-Global Solutions, Inc.—Continuance in Control Exemption—TGS Cedar Port Railroad LLC

Trans-Global Solutions Inc. (TGSI), a noncarrier, has filed a verified notice of exemption under 49 CFR 1180.2(d)(2) to continue in control TGS Cedar Port Railroad LLC (TGSC), a noncarrier controlled by TGSI, upon TGSC's becoming a Class III rail carrier. According to the verified notice, the proposed transaction will allow TGSI to continue to exercise common control of TGSC and one other rail carrier, Austin Area Terminal Railroad, Inc. (AATR).

This transaction is related to a concurrently filed verified notice of exemption in TGS Cedar Port Railroad LLC—Operation Exemption—in Chambers County, Tex., Docket No. FD 36627, in which TGSC seeks to begin common carrier operations over approximately 1.28 miles of presently unregulated track in Chambers County, Tex.

The verified notice states that TGSI controls AATR, a Class III railroad that retains operating authority on certain rail lines in and around Austin, Tex.¹ TGSI certifies the proposed transaction does not include a provision restricting future interchange with a third-party connecting carrier.

¹ See Austin W. R.R.—Operation Exemption—Cap. Metro. Transp. Auth., FD 35072 (STB served Sept. 14, 2007); Austin Area Terminal R.R.—Change in Operators Exemption—Trans-Glob. Sols., Inc., FD 33972 (STB served Dec. 20, 2002). TGSI asserts that the lines over which AATR used to operate are now exclusively operated by Austin Western Railroad, Inc., and that AATR intends to seek discontinuance authority in the future.

TGSI represents that: (1) the rail line to be operated by TGSC would not connect with the tracks over which AATR retains operating authority; (2) the control transaction is not part of a series of anticipated transactions that would result in such a connection; and (3) the transaction does not involve a Class I rail carrier. The proposed transaction is therefore exempt from the prior approval requirements of 49 U.S.C. 11323 pursuant to 49 CFR 1180.2(d)(2).

The transaction may be consummated on or after August 6, 2022, the effective date of the exemption (30 days after the verified notice was filed).

Under 49 U.S.C. 10502(g), the Board may not use its exemption authority to relieve a rail carrier of its statutory obligation to protect the interests of its employees. However, 49 U.S.C. 11326(c) does not provide for labor protection for transactions under 49 U.S.C. 11324 and 11325 that involve only Class III rail carriers. Because this transaction involves Class III rail carriers only, the Board, under the statute, may not impose labor protective conditions for this transaction.

If the verified notice contains false or misleading information, the exemption is void ab initio. Petitions to revoke the exemption under 49 U.S.C. 10502(d) may be filed at any time. The filing of a petition to revoke will not automatically stay the effectiveness of the exemption. Petitions for stay must be filed no later than July 29, 2022 (at least seven days before the exemption becomes effective).

All pleadings, referring to Docket No. FD 36628, must be filed with the Surface Transportation Board either via e-filing on the Board's website or in writing addressed to 395 E Street SW, Washington, DC 20423-0001. In addition, one copy of each pleading must be served on TGSI's representative, Robert A. Wimbish, Fletcher & Sippel LLC, 29 North Wacker Drive, Suite 800, Chicago, IL 60606-3208.

According to TGSI, this action is categorically excluded from environmental review under 49 CFR 1105.6(c) and from historic reporting requirements under 49 CFR 1105.8(b).

Board decisions and notices are available at www.stb.gov.

Decided: July 18, 2022.
By the Board, Mai T. Dinh, Director, Office of Proceedings.
Aretha Laws-Byrum,
Clearance Clerk.

[FR Doc. 2022-15671 Filed 7-21-22; 8:45 am]

BILLING CODE 4915-01-P